DEPARTMENT OF THE INTERIOR

Fish and Wildlife Service

50 CFR Part 17

RIN 1018-AI17

Endangered and Threatened Wildlife and Plants; Reopening of the Comment Period on the Proposed Listing of the Columbia Basin Distinct Population Segment of the Pygmy Rabbit (Brachylagus idahoensis) as Endangered

AGENCY: Fish and Wildlife Service, Interior.

ACTION: Proposed rule; notice of reopening of comment period.

SUMMARY: We, the U.S. Fish and Wildlife Service (Service), pursuant to the Endangered Species Act of 1973, as amended, provide notice of the reopening of the comment period for the proposed listing of the Columbia Basin distinct population segment of the pygmy rabbit (Brachylagus idahoensis) as endangered. The comment period has been reopened in order to conduct a peer review of the proposed rule. Comments previously submitted need not be resubmitted as they already have been incorporated into the public record and will be fully considered in the final rule.

DATES: The public comment period is reopened and we will accept comments until August 1, 2002. Comments must be received by 5 p.m. on the closing date. Any comments that are received after the closing date may not be considered in the final decision on this action.

ADDRESSES: If you wish to comment, you may submit your comments and materials concerning this proposal by any one of several methods:

You may submit written comments and information to the Field Supervisor, U.S. Fish and Wildlife Service, Upper Columbia Fish and Wildlife Office, 11103 East Montgomery Drive, Spokane, WA 99206.

You may also send comments by electronic mail (e-mail) to: fw1cbprabbit@r1.fws.gov. See the Public Comments Solicited section below for file format and other information about electronic filing.

You may hand-deliver comments to our Upper Columbia Fish and Wildlife Office at the address listed above.

Comments and materials received will be available for public inspection, by appointment, during normal business hours at the above address.

FOR FURTHER INFORMATION CONTACT: Christopher Warren, Upper Columbia Fish and Wildlife Office (see ADDRESSES) (telephone 509/891-6839; facsimile 509/891-6748; electronic mail: chris_warren@fws.gov).

SUPPLEMENTARY INFORMATION:

Background

The Columbia Basin distinct population segment of the pygmy rabbit (Brachylagus idahoensis) consists of a single, wild colony totaling fewer than 30 individuals in Douglas County, WA, and a small captive population.

Pursuant to the Endangered Species Act of 1973, as amended (Act) (16 U.S.C. 1531 et seq.), we published an emergency rule to list the Columbia Basin pygmy rabbit as endangered on November 30, 2001 (66 FR 59734). The emergency rule provides immediate Federal protection to this species for a period of 240 days. We also published a concurrent proposed rule on November 30, 2001, to list the Columbia Basin pygmy rabbit as endangered under our normal listing procedures (66 FR 59769).

For further information regarding background biological information, previous Federal actions, factors affecting the species, and conservation measures available to the Columbia Basin pygmy rabbit, please refer to our emergency and proposed rules published in the Federal Register on November 30, 2001.

Public Comments Solicited

With this notification, we solicit additional information and comments that may assist us in making a final decision on the proposed rule to list the Columbia Basin pygmy rabbit as endangered. We intend that any final listing action resulting from our proposal will be as accurate and effective as possible. Therefore, we request comments and additional information from the general public, other concerned governmental agencies, the scientific community, industry, or any other interested party concerning this proposed rule. Comments are particularly sought concerning:

(1) The location of any additional populations of this species, and the reasons why any habitat should or should not be determined to be critical habitat pursuant to section 4 of the Act;

(2) Additional information regarding the range, distribution, and population size of this species;

(3) Biological, commercial trade, or other relevant data regarding any threat (or lack thereof) to the Columbia Basin pygmy rabbit; and

(4) Current or planned activities or land use practices that could potentially impact the Columbia Basin pygmy rabbit.

Previously submitted written comments on this proposal need not be resubmitted. If you submit comments by e-mail, please submit them in ASCII file format and avoid the use of special characters and encryption. Please include “Attn: Columbia Basin pygmy rabbit” and your name and return address in your e-mail message. If you do not receive a confirmation from our system that we have received your e-mail message, contact us directly by calling our Upper Columbia Fish and Wildlife Office, at telephone number 509/891-6839. Comments and materials received will be available for public inspection, by appointment, during normal business hours at the Upper Columbia Fish and Wildlife Office (see ADDRESSES).

In making any final decision on the proposed action, we will take into consideration the comments and any additional information we receive, and such communications may lead to a final regulation that differs from the proposal.

Author

The primary author of this notice is Barbara Behan of the Regional Office, U.S. Fish and Wildlife Service, 911 N.E. 11th Avenue, Portland, OR 97232-4181 (telephone 503/231-6131).

Authority

The authority of this action is the Endangered Species Act of 1973, as amended (16 U.S.C. 1531 et seq.).

Dated: July 9, 2002.
Marshall P. Jones, Jr.,
Acting Director, U.S. Fish and Wildlife Service.

[FR Doc. 02-18015 Filed 7-16-02; 8:45 am]

BILLING CODE 4310-55-P